FEDERAL COMMUNICATIONS COMMISSION

47 CFR Part 73

[DA 03-3230; MB Docket No. 03-174, RM-10754]

Radio Broadcasting Services; Ehrenberg, AZ

AGENCY: Federal Communications Commission.

ACTION: Final rule.

SUMMARY: The Audio Division, at the request of Daniel R. Feely, allots Channel 286C2 to Ehrenberg, Arizona, as the community's first local aural transmission service. See 68 FR 47285, August 8, 2003. Channel 286C2 can be allotted to Ehrenberg, consistent with the minimum distance separation requirements of the Commission's Rules, provided there is a site restriction 28.8 kilometers (17.9 miles) northeast to avoid short-spacing to the license sites of Station KBUX, Channel 232A, Quartzsite, Arizona and Mexican Station XHMC-FM, Channel 285B, Mexicali, BN. The reference coordinates for Channel 286C2 at Ehrenberg are 33-48-00 North Latitude and 114-19-12 West Longitude. Although concurrence has been requested for Channel 286C2 at Ehrenberg, notification has not been received. If a construction permit is granted prior to the receipt of formal concurrence in the allotment by the Mexican government, the construction permit will include the following condition: “Use of this allotment is subject to suspension, modification, or termination without right to hearing, if found by the Commission to be necessary in order to conform to the 1992 USA-Mexico FM Broadcast Agreement or if specifically objected to by Mexico's Secretaria de Comunicaciones Y Transportes.” A filing window for Channel 286C2 at Ehrenberg, Arizona, will not be opened at this time. Instead, the issue of opening a filing window for this channel will be addressed by the Commission in a subsequent order.

DATES: Effective December 8, 2003.

ADDRESSES: Federal Communications Commission, 445 Twelfth Street, SW., Washington, DC 20554.

FOR FURTHER INFORMATION CONTACT: Rolanda F. Smith, Media Bureau, (202) 418-2180.

SUPPLEMENTARY INFORMATION: This is a synopsis of the Commission's Report and Order, MB Docket No. 03-174, adopted October 22, 2003, and released October 24, 2003. The full text of this Commission decision is available for inspection and copying during regular business hours at the FCC's Reference Information Center, Portals II, 445 Twelfth Street, SW., Room CY-A257, Washington, DC 20554. The complete text of this decision may also be purchased from the Commission's duplicating contractor, Qualex International, Portals II, 445 12th Street, SW., Room CY-B402, Washington, DC 20554, telephone 202-863-2893, facsimile 202-863-2898, or via e-mail qualexint@aol.com.

List of Subjects in 47 CFR Part 73

Radio, Radio broadcasting.

PART 73—RADIO BROADCAST SERVICES

1. The authority citation for part 73 continues to read as follows:

Authority: 47 U.S.C. 154, 303, 334 and 336.

§ 73.202 [Amended]

2. Section 73.202(b), the Table of FM Allotments under Arizona, is amended by adding Ehrenberg, Channel 286C2.

Federal Communications Commission.
John A. Karousos,
Assistant Chief, Audio Division, Media Bureau.

[FR Doc. 03-27819 Filed 11-4-03; 8:45 am]

BILLING CODE 6712-01-P